DEPARTMENT OF ENERGY

Federal Energy Regulatory Commission

[Docket No. CP08-481-000]

Petal Gas Storage, LLC; Notice of Request Under Blanket Authorization

October 8, 2008.

Take notice that on September 29, 2008, Petal Gas Storage, LLC (Petal), 1100 Louisiana Street, Houston, TX 77002, filed in docket number CP08-481-000, a prior notice request pursuant to sections 157.205 and 157.214 of the Commission's Regulations under the Natural Gas Act, and Petal's blanket certificate issued in Docket No. CP95-14-000, for authorization to increase its maximum storage capacity in Cavern No. 8 of Petal's storage facility located in Forrest County, Mississippi. Petal proposes to increase the capacity of the cavern from 7.9 Bcf to 9.058 Bcf. The change will result in an increase in the working gas capacity from 5.0 to 5.859 Bcf, and an increase in base gas capacity from 2.9 to 3.199 Bcf. Petal proposes to increase its maximum capacity without any additional construction. The current maximum storage pressure will remain unchanged at 3,200 psia, all as more fully set forth in the application which is on file with the Commission and open to public inspection. The filing may also be viewed on the Web at http://www.ferc.gov using the “eLibrary” link. Enter the docket number excluding the last three digits in the docket number field to access the document. For assistance, please contact FERC Online Support at FERCOnlineSupport@ferc.gov or toll-free at (866) 208-3676, or TTY, contact (202) 502-8659.

Any questions concerning this application may be directed to Richard Porter, Director, Rates and Regulatory Affairs, Petal Gas Storage, LLC, 1100 Louisiana Street, Houston, TX 77002, at (713)-381-2526.

Any person may, within 60 days after the issuance of the instant notice by the Commission, file pursuant to Rule 214 of the Commission's Procedural Rules (18 CFR 385.214) a motion to intervene or notice of intervention. Any person filing to intervene or the Commission's staff may, pursuant to section 157.205 of the Commission's Regulations under the Natural Gas Act (NGA) (18 CFR 157.205) file a protest to the request. If no protest is filed within the time allowed therefor, the proposed activity shall be deemed to be authorized effective the day after the time allowed for protest. If a protest is filed and not withdrawn within 30 days after the time allowed for filing a protest, the instant request shall be treated as an application for authorization pursuant to section 7 of the NGA.

The Commission strongly encourages electronic filings of comments, protests, and interventions via the Internet in lieu of paper. See 18 CFR 385.2001(a)(1)(iii) and the instructions on the Commission's Web site (http://www.ferc.gov) under the “e-Filing” link.

Kimberly D. Bose,
Secretary.

[FR Doc. E8-24496 Filed 10-16-08; 8:45 am]

BILLING CODE 6717-01-P